DEPARTMENT OF COMMERCE

National Oceanic and Atmospheric Administration

RIN 0648-XF592

Marine Mammals; File No. 21158-01

AGENCY: National Marine Fisheries Service (NMFS), National Oceanic and Atmospheric Administration (NOAA), Commerce.

ACTION: Notice; issuance of permit amendment.

SUMMARY: Notice is hereby given that a major amendment to Permit No. 21158 has been issued to Robert Garrott, Ph.D., Montana State University, 310 Lewis Hall, Bozeman, MT 59717.

ADDRESSES: The permit amendment and related documents are available for review upon written request or by appointment in the Permits and Conservation Division, Office of Protected Resources, NMFS, 1315 East-West Highway, Room 13705, Silver Spring, MD 20910; phone (301) 427-8401; fax (301) 713-0376.

FOR FURTHER INFORMATION CONTACT: Sara Young or Carrie Hubard, (301) 427-8401.

SUPPLEMENTARY INFORMATION: On November 8, 2017, a notice was published in the Federal Register (82 FR 51822) that a request for an amendment Permit No. 21158 to conduct research on Weddell seals had been submitted by the above-named applicant. The requested permit amendment has been issued under the authority of the Marine Mammal Protection Act of 1972, as amended (16 U.S.C. 1361 et seq.) and the regulations governing the taking and importing of marine mammals (50 CFR part 216).

The permit amendment authorizes an increase in takes of seal pups authorized to be flipper tagged from a total of 675 to a total take of 1,000 pups. This field season the research team has observed an abnormally high number of pups and current take numbers are not be adequate to meet the stated scientific goals of tagging all pups produced in the Erebus Bay colonies each year. This increase is only for the 2017-18 field season and not for the duration of the permit. At the end of the public comment period, we will assess all substantive comments received and if warranted, further amend the permit in response to those comments.

In compliance with the National Environmental Policy Act of 1969 (42 U.S.C. 4321 et seq.), a final determination has been made that the activity proposed is categorically excluded from the requirement to prepare an environmental assessment or environmental impact statement.

Dated: February 14, 2018.
Julia Harrison,
Chief, Permits and Conservation Division, Office of Protected Resources, National Marine Fisheries Service.

[FR Doc. 2018-03392 Filed 2-16-18; 8:45 am]

BILLING CODE 3510-22-P\